DEPARTMENT OF THE TREASURY

Financial Crimes Enforcement Network Proposed Collection; Comment Request

AGENCY: Financial Crimes Enforcement Network (“FinCEN”), Treasury.

ACTION: Notice and request for comments.

SUMMARY: FinCEN, as part of its continuing effort to reduce paperwork and respondent burden, invites comment on an information collection, as required by the Paperwork Reduction Act of 1995, Public Law 104-13 (44 U.S.C. 3506(c)(2)(A)). Currently, FinCEN is soliciting comments concerning FinCEN Form 8300, for use by nonfinancial trades and businesses to report transactions in currency of greater than $10,000.

DATES: Written comments should be received on or before May 28, 2002 to be assured of consideration.

ADDRESSES: Direct all written comments to: Office of Chief Counsel, Financial Crimes Enforcement Network, Department of the Treasury, P.O. Box 39, Vienna, Virginia 22183. Attention: PRA Comments—Form 8300. Comments also may be submitted by electronic mail to the following Internet address: regcomments@fincen.treas.gov with the caption in the body of the text, “Attention: PRA Comments—Form 8300.”

FOR FURTHER INFORMATION CONTACT: Russell Stephenson, Senior Regulatory Program Analyst, FinCEN, (800) 949-2732, or Laurence Levine, Attorney-Advisor, FinCEN, (703) 905-3590. A copy of the form may be obtained through the Internet at http://www.IRS.gov.

SUPPLEMENTARY INFORMATION: Title: Report of Cash Payments Over $10,000 Received in a Trade or Business.

OMB Number: 1506-0018.

Form Number: FinCEN Form 8300.

Abstract: The Bank Secrecy Act, Titles I and II of Public Law 91-508, as amended, codified at 12 U.S.C. 1829b, 12 U.S.C. 1951-1959, and 31 U.S.C. 5311, et seq., authorizes the Secretary of the Treasury, inter alia, to issue regulations requiring financial institutions to keep records and file reports that are determined to have a high degree of usefulness in criminal, tax, and regulatory matters, or in the conduct of intelligence or counter-intelligence activities to protect against international terrorism, and to implement counter-money laundering programs and compliance procedures.¹ Regulations implementing Title II of the Bank Secrecy Act (codified at 31 U.S.C. 5311, et seq.), appear at 31 CFR part 103. The authority of the Secretary to administer Title II of the Bank Secrecy Act has been delegated to the Director of FinCEN.

¹ Language expanding the scope of the Bank Secrecy Act to intelligence or counter-intelligence activities to protect against international terrorism was added by Section 358 of the Uniting and Strengthening America by Providing Appropriate Tools Required to Intercept and Obstruct Terrorism (USA PATRIOT) Act of 2001, Pub. L. 107-56 (October 26, 2001) (“USA Patriot Act”).

The Bank Secrecy Act was recently amended by section 365 of the USA Patriot Act to add 31 U.S.C. 5331. Under section 5331, any person who is engaged in a trade or business and who, in the course of such trade or business, receives more than $10,000 in coins or currency in one transaction (or two or more related transactions) is required to file a report with respect to such transaction (or related transactions) with the Treasury Department. Reporting under section 5331 does not apply to amounts received in a transaction reported under 31 U.S.C. 5313 and its implementing regulations (31 CFR 103.22).

On December 31, 2001, FinCEN issued an Interim Rule (66 FR 67680) and companion Notice of Proposed Rulemaking (66 FR 67685) to implement section 5331. Because section 5331 is substantially similar to 26 U.S.C. 6050I, the Interim Rule provides that persons required to report a transaction under section 5331 must make that report by filing a joint FinCEN/IRS form. The joint form is essentially the same as the Form 8300 previously required to be filed solely under section 6050I of title 26. Under this dual-reporting regime, only one form is required to be filed for a transaction subject to both section 5331 and section 6050I of title 26. Thus, the Interim Rule imposes no new reporting or record-keeping burden on persons required to report transactions under section 5331.

The information collected on FinCEN Form 8300, Report of Cash Payments over $10,000 Received in a Trade or Business, is required to comply with section 5331 and its implementing regulations. The collection of information is mandatory.

Type of Review: New information collection.

Affected Public: Business or other for-profit institutions.

Estimated Number of Respondents: 46,800.

Estimated Total Annual Responses: 140,400.

Estimated Total Annual Burden Hours: FinCEN/IRS Form 8300 imposes no additional burden on the public than that required by its predecessor, IRS Form 8300. For the last estimate of the burden for Form 8300, see 65 FR 3534 (January 21, 2000).

An agency may not conduct or sponsor, and a person is not required to respond to, a collection of information unless the collection of information displays a valid OMB control number. Records required to be retained under the Bank Secrecy Act must be retained for five years. Generally, information collected pursuant to the Bank Secrecy Act is confidential, but may be shared as provided by law with regulatory, law enforcement, and intelligence agencies.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information

Dated: March 22, 2002.
James F. Sloan,
Director, Financial Crimes Enforcement Network.

[FR Doc. 02-7557 Filed 3-28-02; 8:45 am]

BILLING CODE 4810-02-P